DEPARTMENT OF COMMERCE

National Oceanic and Atmospheric Administration

RIN 0648-XO10

Fisheries of the Caribbean, Gulf of Mexico, and South Atlantic; Snapper-Grouper Fishery off the Southern Atlantic States and Coral and Coral Reefs Fishery in the South Atlantic; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Patricia L. McNeese, on behalf of the North Carolina Department of Environment and Natural Resources Aquariums Division (NC Aquariums). If granted, the EFP would authorize NC Aquariums to collect, with certain conditions, various species of reef fish and live rock in Federal waters, along the North Carolina coast. The specimens would be used in educational exhibits displaying North Carolina native species at aquariums located on Pine Knoll Shores, Roanoke Island, and Fort Fisher, NC.

DATES: Comments must be received no later than 5 p.m., Eastern standard time, on July 6, 2009.

ADDRESSES: Comments on the application may be sent via fax to 727-824-5308 or mailed to: Nikhil Mehta, Southeast Regional Office, NMFS, 263 13th Avenue South, St. Petersburg, FL 33701. Comments may also be submitted by e-mail. The mailbox address for providing e-mail comments is NCAquariums.EFP@noaa.gov. Include in the subject line of the e-mail document the following text: Comment on NC Aquariums EFP Application. The application and related documents are available for review upon written request to the address above or the e-mail address below.

FOR FURTHER INFORMATION CONTACT: Nikhil Mehta, 727-824-5305; fax 727-824-5308; e-mail nikhil.mehta@noaa.gov.

SUPPLEMENTARY INFORMATION: The EFP is requested under the authority of the Magnuson-Stevens Fishery Conservation and Management Act (16 U.S.C. 1801 et seq.), and regulations at 50 CFR 600.745(b) concerning exempted fishing.

This action involves activities covered by regulations implementing the Fishery Management Plan for the Snapper-Grouper Fishery of the South Atlantic Region. The applicant requires authorization to collect a variety of reef fish, including those in the snapper-grouper complex, and live rock (Table 1).

Table 1—Common name and total number of fish, and amount of live rock to be harvested over a 2-year period by NC Aquariums.
16 Speckled Hind
16 Red Hind
16 Rock Hind
16 Red Grouper
16 Gag
16 Scamp
26 Red Snapper
16 Red Porgy
9 Yellowfin Grouper
16 Yellowmouth Grouper
12 Snowy Grouper
2 Warsaw Grouper
9 Yellowedge Grouper
16 Graysby
16 Coney
84 Yellowtail Snapper
26 Schoolmaster Snapper
300 lbs. (136 kg) Live Rock
16 Silk Snapper
78 Vermilion Snapper
200 Tomtate
100 Small-mouth Grunt
5 Common Hogfish
5 Spanish Hogfish
5 Cuban Hogfish
200 Cottonwick
6 Blue Angelfish
6 Queen Angelfish
6 Grey Angelfish
6 French Angelfish
6 Stoplight Parrotfish
6 Blue Parrotfish
6 Midnight Parrotfish
6 Dwarf Goatfish
6 Yellow Goatfish

Specimens would be collected in Federal waters from 3 miles (4.8 km) offshore out to 100 fathoms (182 m), from 33°10′ N lat. to 36°30′ N lat. along the coast of North Carolina. The project proposes to use hook-and-line gear, and standard traps (for example, black sea bass and minnow traps) to collect fish, and SCUBA to collect live rock by hand. The collections would be conducted year-round for a period of 2 years, commencing on the date of issuance of the EFP.

The overall intent of the project is to incorporate North Carolina native species into the educational exhibits at the three aquariums located on Pine Knoll Shores, Roanoke Island, and Fort Fisher, NC. The aquariums use these displays of native North Carolina habitats and species to teach the visiting public (over 1 million a year) about conservation of these resources.

NMFS finds this application warrants further consideration. Based on a preliminary review, NMFS intends to issue an EFP. Possible conditions the agency may impose on this permit, if it is indeed granted, include but are not limited to, a prohibition of conducting research within marine protected areas, marine sanctuaries, special management zones, or artificial reefs without additional authorization. Additionally, NMFS may prohibit the possession of Nassau or goliath grouper, and require any sea turtles taken incidentally during the course of fishing or scientific research activities to be handled with due care to prevent injury to live specimens, observed for activity, and returned to the water. The harvest of live rock would have to be replaced by an equivalent amount of new rock substrate, or obtained from a commercial (aquaculture) source. A final decision on issuance of the EFP will depend on NMFS review of public comments received on the application, consultations with the affected state, the South Atlantic Fishery Management Council, and the U.S. Coast Guard, and a determination that it is consistent with all applicable laws.

Authority: 16 U.S.C. 1801 et seq.

Dated: June 1, 2009.
Kristen C. Koch
Acting Director, Office of Sustainable Fisheries, National Marine Fisheries Service.

[FR Doc. E9-13175 Filed 6-5-09; 8:45 am]

BILLING CODE 3510-22-S